DEPARTMENT OF LABOR

Employment and Training Administration

Proposed Collection; Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed. Currently, the Employment and Training Administration (ETA) is soliciting comments concerning the proposed extension on the collection of data contained in the procedures to petition ETA for classification as a Labor Surplus Area (LSA) under exceptional circumstances criteria.

A copy of the proposed information collection request can be obtained by contacting the office below in the ADDRESSES section of this notice.

DATES: Written comments must be submitted to the office listed in the ADDRESSES section below on or before June 25, 2001.

ADDRESSES: Address all comments concerning this notice to Gay Gilbert, Division Chief, U.S. Employment Service/ALMIS, Office of Workforce Security, Employment and Training Administration, 200 Constitution Ave., NW., Rm. C-4512, Washington, DC 20210; (202) 693-3046 (not a toll-free number); Internet address: ggilbert@doleta.gov; and/or Fax: (202) 693-3229.

SUPPLEMENTARY INFORMATION:

I. Background

20 CFR parts 654, the Secretary of Labor is required to classify labor surplus areas (LSAs) and disseminate this information for the use of all Federal agencies. This information is used by Federal agencies for various purposes including procurement decision, food stamp waiver decisions, certain small business loan decisions, as well as other purposes determined by the agencies. The LSA listings are issued annually, effective October 1 of each year, utilizing data from the Bureau of Labor Statistics. Areas meeting the criteria are classified as Labor Surplus Areas.

The Department's regulations specify that the Department can add other areas to the annual LSA listing under the exceptional circumstance criteria in 20 CFR 654.5. Such additions are based upon information contained in petitions submitted by the State Employment Security Agencies (SESAs) to the national office of the ETA. These petitions contain specific economic information about an area in order to provide ample justification for adding the area to the LSA listing under the exceptional circumstance criteria. Exceptional circumstances as defined in 20 CFR 654.5(a) are catastrophic events, such as natural disasters, plant closings, and contract cancellations expected to have a long-term impact on labor market area conditions, discounting temporary or seasonal factors. This data collection pertains only to data submitted voluntarily by States in exceptional circumstance petitions.

Most of the information contained in the SESA LSA petitions is already available from other sources, e.g., internal reports, statistical programs, newspaper clippings, and other similar information. The petitions are not intended to provide new (unduplicated) information but, rather, are intended to bring various types of information together in a single document in order to make an LSA classification determination. No periodic reporting is required.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions:

This is a request for Office of Management and Budget (OMB) approval under the Paperwork Reduction Act of 1995 (44 U.S.C. 3506(c)(2)(A) of an extension to an existing collection of information previously approved and assigned OMB Control No. 1205-0207. There is a reduction in burden based on an experience rate for the last year of the approved data collection period. During the current OMB approved period, a maximum of five petitions annually have been received and processed. Therefore, a reduction is being reported for the next period.

Type of Review: Extension without change.

Agency: Employment and Training Administration.

Title: Procedures for Classifying Labor Surplus Areas Exceptional Circumstances Reporting.

OMB Number: 1205-0207.

Affected Public: State Employment Security Agencies.

Total Responses: 5.

Average Time Per Response: 4 hours.

Total Burden Hours: 20.

Total Burden Cost (capital/startup): $0.

Total Burden Cost (operating/maintaining): $0.

Comments submitted in response to this comment request will be summarized and/or included in the request for Office of Management and Budget approval of the information collection request; they will also become a matter of public record.

Dated: April 17, 2001.
Gay Gilbert,
Division Chief of U.S. Employment Service/ALMIS.

[FR Doc. 01-10245 Filed 4-24-01; 8:45 am]

BILLING CODE 4510-30-P